DEPARTMENT OF THE INTERIOR

Fish and Wildlife Service

[Docket No. FWS-HQ-IA-2023-0011; FXIA16710900000-234-FF09A30000]

Endangered Species; Issuance of Permits

AGENCY: Fish and Wildlife Service, Interior.

ACTION: Notice of issuance of permits.

SUMMARY: We, the U.S. Fish and Wildlife Service (Service), have issued the following permits to conduct certain activities with endangered species. We issue these permits under the Endangered Species Act (ESA).

ADDRESSES: Information about the applications for the permits listed in this notice is available online at https://www.regulations.gov. See SUPPLEMENTARY INFORMATION for details.

FOR FURTHER INFORMATION CONTACT: Brenda Tapia, by phone at 703-358-2185, or via email at DMAFR@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service (Service), have issued permits to conduct certain activities with endangered and threatened species in response to permit applications that we received under the authority of section 10(a)(1)(A) of the Endangered Species Act of 1973 (16 U.S.C. 1531 et seq.)

After considering the information submitted with each permit application and the public comments received, we issued the requested permits subject to certain conditions set forth in each permit. For each application for an endangered species, we found that (1) the application was filed in good faith, (2) the granted permit would not operate to the disadvantage of the endangered species, and (3) the granted permit would be consistent with the purposes and policy set forth in section 2 of the ESA.

Availability of Documents

The permittees' original permit application materials, along with public comments we received during public comment periods for the applications, are available for review. To locate the application materials and received comments, go to https://www.regulations.gov and search for the appropriate permit number (e.g., 12345C) provided in the following table:

ePermit No. | Applicant | Permit issuance date
86992C | Mike Cunningham | March 29, 2022.
70061C | Brian Spicer | March 17, 2022.
40226D | James Lines | March 11, 2022.
PER0017129 | Smithsonian National Zoo and Conservation Biology Institute | March 23, 2022.
77784D | Honolulu Zoo | May 9, 2022.
PER0028414 | Smithsonian National Zoo and Conservation Biology Institute | May 9, 2022.
54247C | Edward Aston | May 18, 2022.
PER0024280 | Toledo Zoological Society | March 23, 2022.
85481D | Oklahoma City Zoological Park, dba Oklahoma City Zoo | June 14, 2022.
PER0026582 | Eastern Connecticut State University | June 23, 2022.
PER0025129 | Friends of the Topeka Zoo, Inc | July 12, 2022.
PER0014869 | Virginia Safari Park and Preservation Center, Inc., dba Virginia Safari Park | August 12, 2022.
73080C | Stewart Schanzenbach | August 17, 2022.
72865D | Richard Roark | August 19, 2022.
PER0042600 | Jeremy Hammond | August 19, 2022.
42192D | Robert Wier | August 19, 2022.
32317D | Arnold Beck | August 19, 2022.
37469D | Ronnie Williams | August 19, 2022.
08288D | Hugh Richardson | August 23, 2022.
46595D | Bernard McMasters | August 19, 2022.
PER0043133 | California Academy of Sciences | August 24, 2022.
73030C | Edwin Hartman | September 1, 2022.
PER0045505 | American Museum of Natural History | September 1, 2022.
28644D | Philip Geisse | September 20, 2022.
24612D | Jeff Demaske | September 19, 2022.
03114D | Mathew Bell | September 15, 2022.
PER0036283 | Miami-Dade Zoological Park and Gardens | September 21, 2022.
PER0042461 | Indianapolis Zoological Society, Inc., dba Indianapolis Zoo | October 11, 2022.
PER0050556 | Florida State University Robert K. Godfrey Herbarium | October 19, 2022.
PER0050974 | Harvard University Museum of Comparative Zoology | October 20, 2022.
PER0046199 | Cheyenne Mountain Zoo | October 25, 2022.
PER0044674 | Mark D. Simpson | October 31, 2022.
PER0043459 | Kevin L. Emrath | October 31, 2022.
17070D | Donald Youngblood | October 31, 2022.
52689C | Terry L. Anderson | October 28, 2022.
PER0043674 | Clinton A. Bissett | October 31, 2022.
51278D | Tanner Glidden | October 31, 2022.
97878C | Rich J. Cabela | October 31, 2022.
54295C | Christian M. Rothermel | October 31, 2022.
62557C | Earnest Joseph Dosio | October 31, 2022.
PER0052084 | Yale University Peabody Museum of Natural History | November 2, 2022.
76772C | Mark Wayne Pirkle | November 4, 2022.
62051D | William B. Stroud | November 14, 2022.
76127C | Phillip D. Landry | November 14, 2022.
PER0050971 | Duke University | November 17, 2022.
837068 | Emory National Primate Research Center | November 21, 2022.
74969C | Rudy Nix | November 28, 2022.
59526D | Abraham Garza | November 28, 2022.
PER0047993 | Miami-Dade Zoological Park and Gardens | November 29, 2022.
63058C | Thomas Sloan | December 01, 2022.
97800C | Michael Stein | December 02, 2022.
PER0049577 | Michael W. Howard | December 06, 2022.
59012C | Michael Towbin | December 14, 2022.
PER0054866 | Bernice Pauahi Bishop Museum | January 4, 2023.

Authorities

We issue this notice under the authority of the Endangered Species Act, as amended (16 U.S.C. 1531 et seq.), and its implementing regulations.

Brenda Tapia,
Supervisory Program Analyst/Data Administrator, Branch of Permits, Division of Management Authority.

[FR Doc. 2023-15070 Filed 7-14-23; 8:45 am]

BILLING CODE 4333-15-P